DEPARTMENT OF THE INTERIOR

National Park Service

Notice of Intent to Repatriate Cultural Items in the Possession of the Koshare Indian Museum, La Junta, CO

AGENCY: National Park Service, Interior.

ACTION: Notice.

Notice is hereby given in accordance with the Native American Graves Protection and Repatriation Act (NAGPRA), 43 CFR 10.10 (a)(3), of the intent to repatriate cultural items in the possession of the Koshare Indian Museum that meet the definition of “objects of cultural patrimony” and “unassociated funerary objects” under Section 2 of the Act.

This notice is published as part of the National Park Service’s administrative responsibilities under NAGPRA, 43 CFR 10.2 (c). The determinations within this notice are the sole responsibility of the museum, institution, or Federal agency that has control of these cultural items. The National Park Service is not responsible for the determinations within this notice.

The three cultural items are a raven Chilkat robe, an eagle dagger, and an oyster catcher rattle.

In 1971, the Chilkat robe was purchased by J.F. Burshears for the Koshare Indian Museum. The robe was made by Anna Klaney, also known as K’aanakeek Tlaa, for her husband’s family. Her husband was the housemaster of the Frog House, one of the Gaanaaxteidi clan houses in the village of Klukwan. The Gaanaaxteidi are of the Raven moiety of the Tlingit, and the emblem on the robe is a raven. Museum documentation and consultation evidence indicate that the Chilkat robe has ongoing historical, traditional, or cultural importance central to the Tlingit culture, and may not be alienated, appropriated, or conveyed by any individual.

At an unknown date, the eagle dagger came into the possession of the Koshare Indian Museum. The dagger consists of a carved wooden handle that contains an eagle crest that is common among Tlingit clans. Museum documentation and consultation evidence indicate that the eagle dagger was used for ceremonial purposes by Tlingit members, that it has ongoing historical, traditional, or cultural importance central to Tlingit culture, and may not be alienated, appropriated, or conveyed by any individual.

Based on the above-mentioned information, officials of the Koshare Indian Museum have determined that, pursuant to 43 CFR 10.2 (d)(4), these two cultural items have ongoing historical, traditional, or cultural importance central to the tribe itself, and may not be alienated, appropriated, or conveyed by any individual.

The oyster catcher rattle consists of a wooden fragment and was donated to the Koshare Indian Museum by Julian H. Salomon in 1984. Consultation evidence indicates that this rattle was removed from the specific burial site of an individual, and that rattles of this type are unique to the Tlingit and were used only by the ixt’ (shaman) of the Tlingit, and were placed with the deceased shaman in above-ground burials.

Based on the above-mentioned information, officials of the Koshare Indian Museum have determined that, pursuant to 43 CFR 10.2 (d)(2)(ii), this one cultural item is reasonably believed to have been placed with or near individual human remains at the time of death or later as part of the death rite or ceremony and is believed, by a preponderance of the evidence, to have been removed from a specific burial site of an Native American individual.

Officials of the Koshare Indian Museum also have determined that, pursuant to 43 CFR 10.2 (e), there is a relationship of shared group identity that can be reasonably traced between these objects of cultural patrimony and unassociated funerary object and the Central Council of Tlingit & Haida Indian Tribes.

This notice has been sent to officials of the Cape Fox Corporation, Central Council of Tlingit and Haida Indian Tribes, Chilkat Indian Village, Ketchikan Indian Corporation, Organized Village of Saxman, Sealaska Heritage Corporation, and Yakutat Tlingit Tribe. Representatives of any other Indian tribe that believes itself to be culturally affiliated with these objects of cultural patrimony and unassociated funerary object should contact Tina Wilcox, Collections Manager, Koshare Indian Museum, 115 West 18th Street, P.O. Box 580, La Junta, CO 81050, telephone (719) 384-4411, before October 15, 2002. Repatriation of these objects of cultural patrimony and unassociated funerary object to the Central Council of Tlingit & Haida Indian Tribes may begin after that date if no additional claimants come forward.

Dated: July 9, 2002
Robert Stearns,
Manager, National NAGPRA Program.

[FR Doc. 02-23133 Filed 9-11-02; 8:45 am]

BILLING CODE 4310-70-S